SECURITIES AND EXCHANGE COMMISSION

[Release No. IC-26823]

Notice of Applications for Deregistration Under Section 8(f) of the Investment Company Act of 1940

March 25, 2005.

The following is a notice of applications for deregistration under section 8(f) of the Investment Company Act of 1940 for the month of March, 2005. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on April 19, 2005, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609.

FOR FURTHER INFORMATION CONTACT: Diane L. Titus at (202) 551-6810, SEC, Division of Investment Management, Office of Investment Company Regulation, 450 Fifth Street, NW., Washington, DC 20549-0504.

TS&W/Heitman/Claymore Equity Income Fund [File No. 811-21456]

Summary: Applicant, a closed-end investment company, seeks an order declaring that it has ceased to be an investment company. Applicant has never made a public offering of its securities and does not propose to make a public offering or engage in business of any kind.

Filing Date: The application was filed on February 28, 2005.

Applicant's Address: 2455 Corporate West Dr., Lisle, IL 60532.

Morgan Stanley Market Leader Trust [File No. 811-7915]

Summary: Applicant seeks an order declaring that it has ceased to be an investment company. On February 24, 2004, applicant transferred its assets to Morgan Stanley Growth Fund, based on net asset value. Expenses of $333,000 incurred in connection with the reorganization were paid by applicant.

Filing Date: The application was filed on March 7, 2005.

Applicant's Address: Morgan Stanley Investment Advisors Inc., 1221 Avenue of the Americas, New York, NY 10020.

Atalanta Sosnoff Investment Trust [File No. 811-8669]

Summary: Applicant seeks an order declaring that it has ceased to be an investment company. On October 1, 2004, applicant made a liquidating distribution to its shareholders, based on net asset value. Expenses of $12,948 incurred in connection with the liquidation were paid by Atalanta Sosnoff Capital, LLC, applicant's investment adviser.

Filing Date: The application was filed on February 28, 2005.

Applicant's Address: 101 Park Ave., New York, NY 10178.

Phoenix-LJH Advisors Fund LLC [File No. 811-21138]

Summary: Applicant, a closed-end investment company, seeks an order declaring that it has ceased to be an investment company. On September 30, 2004, applicant made a liquidating distribution to its shareholders, based on net asset value. Applicant has two remaining shareholders, once applicant's pending receivables are collected, the remaining assets will be distributed. Applicant paid $45,000 in expenses incurred in connection with the liquidation.

Filing Dates: The application was filed on November 22, 2004, and amended on March 1, 2005.

Applicant's Address: 2640 Golden Gate Pkwy., Suite 205, Naples, FL 34105.

The Gannett Welsh & Kotler Funds [File No. 811-7673]

Summary: Applicant seeks an order declaring that it has ceased to be an investment company. On October 4, 2002, applicant transferred its assets to BNY Hamilton Multi-Cap Equity Fund, based on net asset value. Any expenses incurred in connection with the reorganization were paid by Bank of New York, investment adviser to the acquiring fund.

Filing Dates: The application was filed on November 23, 2004, and amended on March 1, 2005.

Applicant's Address: Gannett Welsh & Kotler, Inc., 222 Berkeley St., Boston, MA 02116.

Brundage, Story and Rose Investment Trust [File No. 811-6185]

Summary: Applicant seeks an order declaring that it has ceased to be an investment company. On June 8, 2003, applicant transferred its assets to Old Westbury Funds, Inc., based on net asset value. Any expenses incurred in connection with the reorganization were paid by Bessemer Investment Management, investment adviser to the acquiring fund.

Filing Dates: The application was filed on November 23, 2004, and amended on February 28, 2005.

Applicant's Address: Brundage, Story and Rose LLC, 630 Fifth Ave., New York, NY 10111.

Riggs Funds [File No. 811-6309]

Summary: Applicant seeks an order declaring that it has ceased to be an investment company. On September 29, 2003, each of applicant's series transferred its assets to corresponding series of the following funds based on net asset value: Federated Capital Appreciation Fund, Federated Kaufmann Fund, Federated Total Return Government Bond Fund, Federated Total Return Bond Fund, Federated Short-Term Municipal Trust, Federated Intermediate Municipal Trust, Automated Cash Management Trust, and Automated Government Money Trust. Expenses of $248,377 incurred in connection with the reorganization were paid by applicant and the acquiring fund.

Filing Dates: The application was filed on November 16, 2004, and amended on February 23, 2005.

Applicant's Address: 5800 Corporate Dr., Pittsburgh, PA 15237.

Nuveen EquityBuilder Equity Unit Investment Trust Series 1 [File No. 811-7079]

Summary: Applicant, a unit investment trust, seeks an order declaring that it has ceased to be an investment company. Applicant has never made a public offering of its securities and does not propose to make a public offering or engage in business of any kind.

Filing Dates: The application was filed on January 25, 2005, and amended on March 11, 2005.

Applicant's Address: 333 West Wacker Dr., Chicago, IL 60606.

Nuveen AIM Municipal Income and Equity Growth Fund [File No. 811-8756]

Summary: Applicant, a closed-end management company, seeks an order declaring that it has ceased to be an investment company. Applicant has never made a public offering of its securities and does not propose to make a public offering or engage in business of any kind.

Filing Dates: The application was filed on January 25, 2005, and amended on March 11, 2005.

Applicant's Address: 333 West Wacker Dr., Chicago, IL 60606.

Dole Food Automatic Common Exchange Security Trust [File No. 811-7499]

Republic Industries Automatic Common Exchange Security Trust [File No. 811-8069]

Readers Digest Automatic Common Exchange [File No. 811-8237]

Summary: Each applicant, a closed-end investment company, seeks an order declaring that it has ceased to be an investment company. Between August 15, 1999 and February 15, 2001, each applicant made a pro rata liquidating distribution to its shareholders, as provided for in each applicant's registration statement. Applicants incurred no expenses in connection with the liquidations.

Filing Dates: The applications were filed on January 10, 2005, and amended on March 10, 2005.

Applicants' Address: Attn: Betty A. Cocozza, Bank of New York, 101 Barclay St., 8th Floor, New York, NY 10286.

Express Scripts Automatic Exchange Security Trust [File No. 811-9427]

Summary: Applicant, a closed-end investment company, seeks an order declaring that it has ceased to be an investment company. On November 17, 2003, applicant made a pro rata liquidating distribution to its shareholders, as provided for in applicant's registration statement. Applicant incurred no expenses in connection with the liquidation.

Filing Dates: The application was filed on January 4, 2005, and amended on March 10, 2005.

Applicant's Address: Attention: Bruce Vecchio—Institutional Trust Services, JP Morgan Chase Bank, 4 New York Plaza, 13th Floor, New York, NY 10004.

CVS Automatic Common Exchange Security Trust [File No. 811-8539]

Estee Lauder Automatic Common Exchange Security Trust [File No. 811-8761]

Estee Lauder Automatic Common Exchange Security Trust II [File No. 811-8827]

Amdocs Automatic Common Exchange Security Trust [File No. 811-9245]

NBCi Automatic Common Exchange Security Trust [File No. 811-9323]

Summary: Each applicant, a closed-end investment company, seeks an order declaring that it has ceased to be an investment company. Between May 15, 2001 and September 11, 2002, each applicant made a pro rata liquidating distribution to its shareholders, as provided for in the applicant's registration statement. Applicants incurred no expenses in connection with the liquidations.

Filing Dates: The applications were filed on January 4, 2005, and amended on March 10, 2005.

Applicant's Address: Attention: Bruce Vecchio—Institutional Trust Services, JP Morgan Chase Bank, 4 New York Plaza, 13th Floor, New York, NY 10004.

10K Smart Trust Fund [File No. 811-9283]

Summary: Applicant seeks an order declaring that it has ceased to be an investment company. On August 31, 2000, applicant made a liquidating distribution to its shareholders, based on net asset value. Applicant incurred no expenses in connection with the liquidation.

Filing Dates: The application was filed on December 23, 2004, and amended on March 3, 2005.

Applicant's Address: 5952 Royal Ln., Suite 270, Dallas, TX 75230.

For the Commission, by the Division of Investment Management, pursuant to delegated authority.
Margaret H. McFarland,
Deputy Secretary.

[FR Doc. E5-1411 Filed 3-30-05; 8:45 am]

BILLING CODE 8010-01-P